ENVIRONMENTAL PROTECTION AGENCY

[OPP-2005-0144; FRL-7744-5]

Phenothrin and s-Methoprene; Product Cancellation Order

AGENCY: Environmental Protection Agency (EPA).

ACTION: Notice.

SUMMARY: This notice announces EPA's order for the cancellation, voluntarily requested by the registrant and accepted by the Agency, of a product containing the pesticides phenothrin and s-methoprene, pursuant to section 6(f)(1) of the Federal Insecticide, Fungicide, and Rodenticide Act (FIFRA), as amended. This cancellation order follows a July 15, 2005 (corrected August 3, 2005) Federal Register Notice of Receipt of a Request from the registrant Hartz Mountain Corporation to voluntarily cancel their product Hartz Ref 117, a product labeled for use as a spot-on for cats and kittens. In the July 15, 2005 Notice, EPA indicated that it would issue an order implementing the cancellation no earlier than October 31, 2005. EPA further indicated that the request for cancellation was irrevocable. The Agency did not receive any comments on the Notice during the 30-day comment period. Accordingly, EPA hereby issues in this Notice a cancellation order granting the requested cancellation. Any distribution, sale, or use of the product Hartz Ref 117 is permitted only in accordance with the terms of this order, including any existing stocks provisions.

DATES: The cancellation is effective November 4, 2005.

FOR FURTHER INFORMATION CONTACT: Ann Sibold, Registration Division (7505C), Office of Pesticide Programs, Environmental Protection Agency, 1200 Pennsylvania Ave., NW., Washington, DC 20460-0001; telephone number: (703) 305-6502; fax number: (703) 305-6596; e-mail address: sibold.ann@epa.gov.

SUPPLEMENTARY INFORMATION:

I. General Information

A. Does this Action Apply to Me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action. If you have any questions regarding the applicability of this action to a particular entity, consult the person listed under FOR FURTHER INFORMATION CONTACT.

B. How Can I Get Copies of this Document and Other Related Information?

1. Docket. EPA has established an official public docket for this action under docket identification (ID) number OPP-2005-0144. The official public docket consists of the documents specifically referenced in this action, any public comments received, and other information related to this action. Although a part of the official docket, the public docket does not include Confidential Business Information (CBI) or other information whose disclosure is restricted by statute. The official public docket is the collection of materials that is available for public viewing at the Public Information and Records Integrity Branch (PIRIB), Rm. 119, Crystal Mall #2, 1801 S. Bell St., Arlington, VA. This docket facility is open from 8:30 a.m. to 4 p.m., Monday through Friday, excluding legal holidays. The docket telephone number is (703) 305-5805.

2. Electronic access. You may access this Federal Register document electronically through the EPA Internet under the “Federal Register” listings at http://www.epa.gov/fedrgstr/.

An electronic version of the public docket is available through EPA's electronic public docket and comment system, EPA Dockets. You may use EPA Dockets at http://www.epa.gov/edocket/ to view public comments, access the index listing of the contents of the official public docket, and to access those documents in the public docket that are available electronically. Although not all docket materials may be available electronically, you may still access any of the publicly available docket materials through the docket facility identified in Unit I.B.1. Once in the system, select “search,” then key in the appropriate docket ID number.

II. What Action is the Agency Taking?

This notice announces the cancellation, as requested by the registrant, of Hartz Ref 117, an end-use product containing phenothrin and s-methoprene, labeled as a spot-on to control fleas and ticks on cats and kittens and registered under section 3 of FIFRA. This registration is listed in Table 1 of this unit.

Table 1.—Product Cancellation
EPA Registration No. | Product Name
2596-148 | Hartz Ref 117

Table 2 of this unit includes the name and address of record for the registrant of the product in Table 1 of this unit

.

Table 2.—Registrant of Canceled Product
EPA Company No. | Company Name and Address
2596 | The Hartz Mountain Corporation, 400 Plaza Drive, Secaucus, NJ 07094-3688

III. Summary of Public Comments Received and Agency Response to Comments

During the public comment period provided, EPA received no comments in response to the Federal Register Notice¹ of July 15, 2005, announcing the Agency's receipt of the request for voluntary cancellation of Hartz Ref 117.

IV. Cancellation Order

Pursuant to FIFRA section 6(f), EPA hereby approves the requested cancellation of the registration identified in Table 1 of Unit II. Accordingly, the Agency orders that the product registration identified in Table 1 of Unit II. is hereby canceled effective November 4, 2005. Any distribution, sale, or use of existing stocks of the product identified in Table 1 of Unit II. in a manner inconsistent with any of the Provisions for Disposition of Existing Stocks set forth in Unit VI. will be considered a violation of FIFRA.

V. What is the Agency's Authority for Taking this Action?

Section 6(f)(1) of FIFRA provides that a registrant of a pesticide product may at any time request that any of its pesticide registrations be canceled or amended to terminate one or more uses. FIFRA further provides that, before acting on the request, EPA must publish a Notice of Receipt of any such request in the Federal Register. Thereafter, following the public comment period, the Administrator may approve such a request.

VI. Provisions for Disposition of Existing Stocks

Existing stocks are those stocks of registered pesticide products which are currently in the United States and which were packaged, labeled, and released for shipment prior to the effective date of the cancellation action. The cancellation order issued in this Notice includes the following existing stocks provisions.

Products in the United States that have been packaged, labeled, and released for shipment prior to the effective date of the cancellation may be sold or distributed by Hartz from its facilities until December 31, 2005, and may be sold or distributed by persons other than Hartz until March 31, 2006. After this date, products may not be sold or distributed unless for the purposes of proper disposal or export.

¹A sentence was inadvertently omitted from the DATES unit which provided a 30-day comment period. A correction Notice published in the Federal Register of August 3, 2005 (70 FR 44635) (FRL-7728-7).

List of Subjects

Environmental protection, Pesticides and pests.

Dated: October 28, 2005.
Lois Rossi,
Director, Registration Division, Office of Pesticide Programs.

[FR Doc. 05-22039 Filed 11-3-05; 8:45 am]

BILLING CODE 6560-50-S